DEPARTMENT OF AGRICULTURE

Forest Service

Notice of New Fee Sites

AGENCY: Kootenai National Forest, Forest Service, USDA.

ACTION: Notice of proposed new fee sites.

SUMMARY: The Kootenai National Forest is proposing to implement new fees at four recreation rental facilities and two campgrounds listed in SUPPLEMENTARY INFORMATION of this notice.

All sites have had recent upgrades and new or improved amenities added to improve services and recreation experiences. The two lookouts are being converted over to recreation rentals from being active fire lookouts. Fees are assessed based on the level of amenities and services provided, cost of operation and maintenance, market assessment, and public comment. Funds from fees will be used for continued operation, maintenance and capital improvements to these recreation sites.

DATES: Send any comments about these fee proposals by November 2, 2018 so comments can be compiled, analyzed, and shared with the Western Montana Bureau of Land Management (BLM) Recreation Resource Advisory Committee. The proposed effective date of implementation of proposed new fees will be no earlier than six months after publication of this notice.

ADDRESSES: Kootenai National Forest, Attn: Recreation Fee Proposals, 31374 U.S. Highway 2, Libby, Montana 59923.

FOR FURTHER INFORMATION CONTACT: Mary Laws, Forest Recreation Program Manager, Kootenai National Forest at 406-293-6211, or by email at r1recfee@fs.fed.us. Information about proposed fee changes can also be found on the Kootenai National Forest Fee proposal website at www.fs.usda.gov/goto/r1recfee.

SUPPLEMENTARY INFORMATION: The Federal Recreation Lands Enhancement Act (Title VIII, Pub. L. 108-447) directed the Secretary of Agriculture to publish a six month advance notice in the Federal Register whenever new recreation fee areas are established. The Forest is proposing to charge at the following sites:

• Black Butte Lookout; Proposed fee of $55 per night.

• Ziegler Mountain Lookout; Proposed fee of $55 per night.

• Raven Ranger Station; Proposed fee of $100 for rental of the 3-bedroom Ranger House (sleeps 10-12). Visitors will also have the option to rent the Ranger House and all ancillary facilities; which includes a classroom, bunkhouse, cookhouse and a residence for: $250 for under 75 people, and $500 for 75 to 150 people, for larger group gatherings;

• Whitetail Yurt; Proposed fee of $25 per night; This site has previously been available as part of the Whitetail Campground, however this proposal will make this site a stand-alone overnight rental opportunity.

• Kilbrennan Lake Campground; Proposed fee of $10 per night, with an additional $5 extra vehicle fee per night for more than two vehicles; and

• Yaak Falls Campground; Proposed fee of $10 per night; with an additional $5 extra vehicle fee per night for more than two vehicles.

Proposed fees at these recreation sites will be invested in site improvements that address sanitation and visitor safety, improve visitor comfort and convenience, reduce deferred maintenance, and improve the overall recreation experiences of the public. These new fees are part of a larger fee proposal available for review at www.fs.usda.gov/goto/r1recfee. Once public involvement is complete, these new fees will be reviewed by a Recreation Resource Advisory Committee prior to a final decision and implementation.

Reasonable fees, paid by users of these sites and services, will help ensure that the Forest can continue maintaining and improving the sites for future generations. A market analysis of surrounding recreation sites with similar amenities indicates that the proposed fees are comparable and reasonable.

Advance reservations for the Black Butte Lookout, Zeigler Mountain Lookout, Raven Ranger Station, and Whitetail Yurt rentals will be available through www.recreation.gov or by calling 1-877-444-6777. The reservation service currently charges a $10 fee for reservations.

Dated: September 18, 2018.
Gregory Smith,
Acting Associate Deputy Chief, National Forest System.

[FR Doc. 2018-21355 Filed 10-2-18; 8:45 am]

BILLING CODE 3411-15-P